INTERNATIONAL TRADE COMMISSION

[Investigation Nos. TA-131-034 and TA 2104-026]

U.S.-Trans-Pacific Partnership Free Trade Agreement: Advice on Probable Economic Effect of Providing Duty-Free Treatment for Imports

AGENCY: United States International Trade Commission.

ACTION: Institution of investigation and scheduling of hearing.

SUMMARY: Following receipt on December 15, 2009, of a request from the United States Trade Representative (USTR), the Commission instituted investigation nos. TA-131-034 and TA-2104-026, U.S.-Trans-Pacific Partnership Free Trade Agreement: Advice on Probable Economic Effect of Providing Duty-Free Treatment for Imports.

DATES: February 16, 2010: Deadline for filing requests to appear at the public hearing. February 18, 2010: Deadline for filing pre-hearing briefs and statements. March 2, 2010: Public hearing. March 16, 2010: Deadline for filing post-hearing briefs and statements. March 23, 2010: Deadline for filing all other written submissions. June 2, 2010: Transmittal of Commission report to the Office of the United States Trade Representative.

ADDRESSES: All Commission offices, including the Commission's hearing rooms, are located in the United States International Trade Commission Building, 500 E Street SW., Washington, DC. All written submissions should be addressed to the Secretary, United States International Trade Commission, 500 E Street, SW., Washington, DC 20436. The public record for this investigation may be viewed on the Commission's electronic docket (EDIS) at http://www.usitc.gov/secretary/edis.htm.

FOR FURTHER INFORMATION CONTACT: Doug Newman, Project Leader (202-205-3328; douglas.newman@usitc.gov), or Craig Thomsen, Deputy Project Leader (202-205-3226, craig.thomsen@usitc.gov), of the Commission's Office of Industries, for information specific to this investigation. For information on the legal aspects of these investigations, contact William Gearhart of the Commission's Office of the General Counsel (202-205-3091 or william.gearhart@usitc.gov). The media should contact Margaret O'Laughlin, Office of External Relations (202-205-1819 or margaret.olaughlin@usitc.gov). Hearing-impaired individuals may obtain information on this matter by contacting the Commission's TDD terminal at 202-205-1810. General information concerning the Commission may also be obtained by accessing its Internet server (http://www.usitc.gov). Persons with mobility impairments who will need special assistance in gaining access to the Commission should contact the Office of the Secretary at 202-205-2000.

Background: On December 14, 2010, the USTR notified the Congress of the President's intent to enter into negotiations for a free trade agreement with Australia, Brunei Darussalam, Chile, New Zealand, Peru, Singapore, and Vietnam, collectively known as the Trans-Pacific Partnership (TPP). Accordingly, the USTR, under authority delegated by the President and pursuant to section 131 of the Trade Act of 1974 (19 U.S.C. 2151), requested that the Commission provide a report containing its advice as to the probable economic effect of providing duty-free treatment for imports of products from the seven TPP countries (i) on industries in the United States producing like or directly competitive products, and (ii) on consumers. The USTR asked that the Commission's analysis consider each article in chapters 1 through 97 of the Harmonized Tariff Schedule of the United States (HTS) for which tariffs will remain, taking into account implementation of U.S. commitments in the World Trade Organization and under U.S. free trade agreements that the United States has with a TPP country. The USTR asked that the advice be based on the HTS in effect during 2010 and trade data for 2008. The USTR also requested that the Commission, in preparing its advice, assume that any known U.S. non-tariff barrier will not be applicable to such imports, and that the Commission note in its report any instance in which the continued application of a U.S. non-tariff barrier would result in different advice with respect to the effect of the removal of the duty.

In addition, the USTR requested that the Commission prepare an assessment, pursuant to section 2104(b)(2) of the Trade Act of 2002 (19 U.S.C. 3804(b)(2)), of the probable economic effects of eliminating tariffs on imports from the TPP countries of those agricultural products on the list attached to his letter on (i) industries in the United States producing the product concerned, and (ii) the U.S. economy as a whole.

As requested, the Commission will provide its report to the USTR by June 2, 2010. The USTR indicated that those sections of the Commission's report that relate to the advice and assessment of probable economic effects will be classified. The USTR also indicated that he considers the Commission's report to be an inter-agency memorandum that will contain pre-decisional advice and be subject to the deliberative process privilege.

Public Hearing: A public hearing in connection with this investigation will be held at the U.S. International Trade Commission Building, 500 E Street, SW., Washington, DC, beginning at 9:30 a.m., March 2, 2010. Requests to appear at the public hearing should be filed with the Secretary no later than 5:15 p.m., February 16, 2010, in accordance with the requirements in the “Submissions” section below. All pre-hearing briefs and statements should be filed not later than 5:15 p.m., February 18, 2010; and all post-hearing briefs and statements should be filed not later than 5:15 p.m., March 16, 2010.

Written Submissions: In lieu of or in addition to participating in the hearing and filing briefs and statements relating to the hearing, interested parties are invited to file written submissions concerning this investigation. All written submissions should be addressed to the Secretary, and should be received not later than 5:15 p.m., March 23, 2010. All written submissions must conform with the provisions of section 201.8 of the Commission's Rules of Practice and Procedure (19 CFR 201.8). Section 201.8 requires that a signed original (or a copy so designated) and fourteen (14) copies of each document be filed. In the event that confidential treatment of a document is requested, at least four (4) additional copies must be filed, in which the confidential information must be deleted (see the following paragraph for further information regarding confidential business information). The Commission's rules authorize filing submissions with the Secretary by facsimile or electronic means only to the extent permitted by section 201.8 of the rules (see Handbook for Electronic Filing Procedures, http://www.usitc.gov/secretary/fed_reg_notices/rules/documents/handbook_on_electronic_filing.pdf). Persons with questions regarding electronic filing should contact the Secretary (202-205-2000).

Any submissions that contain confidential business information must also conform with the requirements of section 201.6 of the Commission's Rules of Practice and Procedure (19 CFR 201.6). Section 201.6 of the rules requires that the cover of the document and the individual pages be clearly marked as to whether they are the “confidential” or “non-confidential” version, and that the confidential business information be clearly identified by means of brackets. All written submissions, except for confidential business information, will be made available for inspection by interested parties.

Issued: January 11, 2010
By order of the Commission.
Marilyn R. Abbott,
Secretary.

[FR Doc. 2010-962 Filed 1-20-10; 8:45 am]

BILLING CODE 7020-02-P